DEPARTMENT OF ENERGY

Federal Energy Regulatory Commission

[Docket No. PF14-21-000]

Alaska Gasline Development Corporation, BP Alaska LNG, LLC, Conoco Phillips Alaska LNG Company, ExxonMobil Alaska LNG, LLC, TransCanada Alaska Midstream, LP; Supplemental Notice of Public Scoping Meetings for the Planned Alaska LNG Project

The staff of the Federal Energy Regulatory Commission (FERC or Commission) will conduct additional public scoping meetings as part of their preparation of an environmental impact statement (EIS) for the Alaska LNG Project involving construction and operation of facilities by Alaska Gasline Development Corporation; BP Alaska LNG, LLC; Conoco Phillips Alaska LNG Company; ExxonMobil Alaska LNG, LLC; and TransCanada Alaska Midstream, LP (Applicants) in Alaska.

More information about the Commission's EIS and the Alaska LNG Project is available in the Notice of Intent to Prepare an Environmental Impact Statement for the Planned Alaska LNG Project and Request for Comments on Environmental Issues (NOI), issued March 4, 2015. The NOI describes the scoping process that is under way seeking public participation in the environmental review of this project. An initial notice announcing public scoping meetings was issued on October 8, 2015. This supplemental notice announces additional public scoping meetings, listed on page 2, to provide an opportunity to submit verbal comments in addition to, or in lieu of, written comments on issues of environmental concern related to the Alaska LNG Project. Both written and verbal comments receive equal consideration. Please note that the scoping period will close on December 4, 2015.

Additional information about the project is available from FERC's Office of External Affairs at (866) 208-FERC (3372) or on the FERC Web site (www.ferc.gov) using the eLibrary link. Click on the eLibrary link, click on “General Search,” and enter the docket number, excluding the last three digits in the Docket Number field (i.e., PF14-21). Be sure you have selected an appropriate date range. For assistance, please contact FERC Online Support at FERCOnlineSupport@ferc.gov or toll free at (866) 208-3676, or for TTY, contact (202) 502-8659. The eLibrary link also provides access to the texts of formal documents issued by the Commission, such as orders, notices, and rulemakings.

Schedule and Locations for the Alaska LNG Project Public Scoping Meetings

The meetings will be recorded by a court reporter to ensure comments are accurately depicted on the public record. The Commission invites you to attend one of the following additional public scoping meetings in the project area.

Date and time | Location
November 17, 2015, 6:00 p.m | Coldfoot Camp Dining Hall, Mile 175 Dalton Hwy., Coldfoot, AK 99701.
November 17, 2015, 6:00 p.m | Healy Tri-Valley Community Center, 0.5 Mile Healy Spur Rd., Healy, AK 99743.
November 18, 2015, 6:00 p.m | Tyonek Tribal Operations—Tribal Center, 100 A Street, Tyonek, AK 99682.
November 18, 2015, 6:00 p.m | Nenana Native Council—Tribal Center, 806 G Street, Nenana, AK 99760.
November 19, 2015, 6:00 p.m | Dena'ina Civic and Convention Center, Khatnu 2 Room, 600 W. Seventh Avenue, Anchorage, AK 99501.
November 19, 2015, 6:00 p.m | Morris Thomson Cultural and Visitors Center, 101 Dunkel Street, Fairbanks, AK 99701.
AK LNG representatives will be present one hour before the scoping meetings with maps depicting the project and to answer questions. The meetings will end once all speakers have provided their comments or at 9 pm, whichever comes first.

Additional meetings in Nikiski, Houston, Trapper Creek, Kaktovik, Barrow, and Nuiqsut, Alaska, occurring during the week of October 26, 2015, were announced on October 8, 2015.

Dated: October 20, 2015.
Kimberly D. Bose,
Secretary.

[FR Doc. 2015-27177 Filed 10-26-15; 8:45 am]

BILLING CODE 6717-01-P